NUCLEAR REGULATORY COMMISSION

Sunshine Act Meeting Notice

Agency Holding the Meeting: Nuclear Regulatory Commission.

Dates: Week of February 4, 2008.

Place: Commissioners' Conference Room, 11555 Rockville Pike, Rockville, Maryland.

Status: Public and Closed.

Additional Matters To Be Considered:

Week of February 4, 2008

Thursday, February 7, 2008

12:55 p.m.

Affirmation Session (Public Meeting).

a. Final Rule—10 CFR 2.311 “Interlocutory Review of Rulings on Requests for Hearings/Petitions to Intervene, Selection of Hearing Procedures, and Requests by Potential Parties for Access to SUNSI and Safeguards Information” (RIN 3150-A108).

b. Final Rule—Regulatory Improvements to the Nuclear Materials Management and Safeguards System (RIN 3150-AH85).

*The schedule for Commission meetings is subject to change on short notice. To verify the status of meetings call (recording)—(301) 415-1292. Contact person for more information: Michelle Schroll, (301) 415-1662.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-415-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 29, 2008.
R. Michelle Schroll,
Office of the Secretary.

[FR Doc. 08-475 Filed 1-30-08; 10:15 am]

BILLING CODE 7590-01-P